DEPARTMENT OF THE TREASURY

Internal Revenue Service

Open Meeting of the Taxpayer Advocacy Panel Volunteer Income Tax Assistance (VITA) Issue Committee

AGENCY: Internal Revenue Service (IRS), Treasury.

ACTION: Notice of Meeting.

SUMMARY: An open meeting of the Taxpayer Advocacy Panel VITA Issue Committee will be conducted. The Taxpayer Advocacy Panel is soliciting public comment, ideas, and suggestions on improving customer service at the Internal Revenue Service.

DATES: The meeting will be held Monday, May 21, from 9 a.m. to 4 p.m.; Tuesday, May 22, from 9 a.m. to 4 p.m.; and Wednesday, May 23, 2007 from 8 a.m. to 11 a.m. Central Time.

FOR FURTHER INFORMATION CONTACT: Barbara Toy at 1-888-912-1227, or (414) 231-2360.

SUPPLEMENTARY INFORMATION: Notice is hereby given pursuant to Section 10(a)(2) of the Federal Advisory Committee Act, 5 U.S.C. App. (1988) that a meeting of the Taxpayer Advocacy Panel VITA Issue Committee will be held Monday, May 21, from 9 a.m. to 4 p.m.; Tuesday, May 22, from 9 a.m. to 4 p.m.; and Wednesday, May 23, 2007 from 8 a.m. to 11 a.m. Central Time, at the Hotel Sheraton Gunter, 205 East Houston Street, San Antonio, TX 78205. Public comments will be welcome during the meeting. You can also submit written comments to the Panel by faxing to (414) 231-2363, or by mail to Taxpayer Advocacy Panel, Stop 1006MIL, P.O. Box 3205, Milwaukee, WI 53201-3205, or you can contact us at www.improveirs.org. Please contact Barbara Toy at 1-888-912-1227 or (414) 231-2360 for additional information.

The agenda will include the following: Various VITA Issues.

Dated: April 20. 2007.
John Fay,
Acting Director, Taxpayer Advocacy Panel.

[FR Doc. E7-8035 Filed 4-26-07; 8:45 am]

BILLING CODE 4830-01-P